DEPARTMENT OF THE INTERIOR

Bureau of Land Management

[UT-910-05-1040-PH-24-1A]

Notice of Utah Resource Advisory Council Meeting

AGENCY: Bureau of Land Management, Department of Interior.

ACTION: Notice of Utah Resource Advisory Council (RAC) Meeting.

SUMMARY: In accordance with the Federal Land Policy and Management Act (FLPMA) and the Federal Advisory Committee Act of 1972 (FACA), the U.S. Department of the Interior, Bureau of Land Management's (BLM) Utah Resource Advisory Council (RAC) will meet as indicated below.

DATES: The Utah Resource Advisory Council (RAC) will meet March 23, 2005, in Salt Lake City, Utah. The RAC will meet in the Broadway Conference Room at the Peery Hotel which is located at 110 West Broadway (300 South), Salt Lake City, Utah. A half-hour public comment period is scheduled to begin at 3:45 p.m. Written comments may be sent to the Bureau of Land Management address listed below.

FOR FURTHER INFORMATION: Contact Sherry Foot, Special Programs Coordinator, Utah State Office, Bureau of Land Management, 324 South State Street, Salt Lake City, Utah 84111; phone (801) 539-4195.

SUPPLEMENTARY INFORMATION: The RAC will be discussing their role in the process of reviewing future Resource Management Plans (RMP); improving RMP communications; listening to various presentations from the Natural Resources Committee, Utah's Lands Policy Group, and an overview of Richfield Field Office's RMP.

All meetings are open to the public; however, transportation, lodging, and meals are the responsibility of the participating public.

Dated: March 2, 2005.
Sally Wisely,
State Director.

[FR Doc. 05-4639 Filed 3-8-05; 8:45 am]

BILLING CODE 4310-$$-P